DEPARTMENT OF VETERANS AFFAIRS

[OMB Control No. 2900-0162]

Agency Information Collection (Monthly Certification of Flight Training) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before August 5, 2013.

ADDRESSES: Submit written comments on the collection of information through www.Regulations.gov or to VA's OMB Desk Officer, OMB Human Resources and Housing Branch, New Executive Office Building, Room 10235, Washington, DC 20503 (202) 395-7316. Please refer to “OMB Control No. 2900-0162” in any correspondence.

FOR FURTHER INFORMATION CONTACT: Crystal Rennie, Enterprise Records Service (005R1B), Department of Veterans Affairs, 810 Vermont Avenue NW., Washington, DC 20420, (202) 461-7485 or email crystal.rennie@va.gov. Please refer to “OMB Control No. 2900-0162.”

SUPPLEMENTARY INFORMATION:

Title: Monthly Certification of Flight Training, VA Form 22-6553c.

OMB Control Number: 2900-0162.

Type of Review: Revision of a currently approved collection.

Abstract: Veterans, individuals on active duty training and reservist training, may receive benefits for enrolling in or pursuing approved vocational flight training. VA Form 22-6553c serves as a report of flight training pursued and termination of such training. Payments are based on the number of hours of flight training the veterans completed during each month.

An agency may not conduct or sponsor, and a person is not required to respond to a collection of information unless it displays a currently valid OMB control number. The Federal Register Notice with a 60-day comment period soliciting comments on this collection of information was published on February 26, 2013, at page 13158.

Affected Public: Individuals or households.

Estimated Annual Burden: 7,306 hours.

Estimated Average Burden per Respondent: 30 minutes.

Frequency of Response: On occasion.

Estimated Number of Respondents: 2,435.

Estimated Total Annual Responses: 14,610.

Dated: July 1, 2013.
By direction of the Secretary.
Crystal Rennie,
VA Clearance Officer, U.S. Department of Veterans Affairs.

[FR Doc. 2013-16138 Filed 7-3-13; 8:45 am]

BILLING CODE 8320-01-P